NATIONAL FOUNDATION ON THE ARTS AND THE HUMANITIES

National Endowment for the Humanities

Meeting of Humanities Panel

AGENCY: National Endowment for the Humanities.

ACTION: Notice of meeting.

SUMMARY: The National Endowment for the Humanities will hold fourteen meetings of the Humanities Panel, a federal advisory committee, during July 2019. The purpose of the meetings is for panel review, discussion, evaluation, and recommendation of applications for financial assistance under the National Foundation on the Arts and Humanities Act of 1965.

DATES: See SUPPLEMENTARY INFORMATION for meeting dates. The meetings will open at 8:30 a.m. and will adjourn by 5:00 p.m. on the dates specified below.

ADDRESSES: The meetings will be held at Constitution Center, 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: July 16, 2019.

This meeting will discuss applications on the topic of Humanities Centers, for the Infrastructure and Capacity Building Challenge Grants program, submitted to the Office of Challenge Grants.

2. Date: July 17, 2019.

This meeting will discuss applications on the topic of Art Museums, for the Infrastructure and Capacity Building Challenge Grants program, submitted to the Office of Challenge Grants.

3. Date: July 18, 2019.

This meeting will discuss applications on the topic of Digital Infrastructure, for the Infrastructure and Capacity Building Challenge Grants program, submitted to the Office of Challenge Grants.

4. Date: July 19, 2019.

This meeting will discuss applications on the topic of Cultural and Community Centers, for the Infrastructure and Capacity Building Challenge Grants program, submitted to the Office of Challenge Grants.

5. Date: July 22, 2019.

This meeting will discuss applications on the topic of Historic Buildings and sites, for the Infrastructure and Capacity Building Challenge Grants program, submitted to the Office of Challenge Grants.

6. Date: July 22, 2019.

This meeting will discuss applications for Fellowships for Advanced Social Science Research on Japan, submitted to the Division of Research Programs.

7. Date: July 23, 2019.

This meeting will discuss applications on the topic of Literature, for the Awards for Faculty grant program, submitted to the Division of Research Programs.

8. Date: July 24, 2019.

This meeting will discuss applications on the topics of Art History, History, Philosophy, and Religion, for the Awards for Faculty grant program, submitted to the Division of Research Programs.

9. Date: July 25, 2019.

This meeting will discuss applications on the topics of History, Latin American Studies, Media, and Social Sciences, for the Awards for Faculty grant program, submitted to the Division of Research Programs.

10. Date: July 25, 2019.

This meeting will discuss applications on the topics of State and Local History, for the Infrastructure and Capacity Building Challenge Grants program, submitted to the Office of Challenge Grants.

11. Date: July 26, 2019.

This meeting will discuss applications on the topic of Public Libraries, for the Infrastructure and Capacity Building Challenge Grants program, submitted to the Office of Challenge Grants.

12. Date: July 26, 2019.

This meeting will discuss applications on the topics of American History and Studies, for the Awards for Faculty grant program, submitted to the Division of Research Programs.

13. Date: July 29, 2019.

This meeting will discuss applications on the topic of Art Museums, for the Infrastructure and Capacity Building Challenge Grants program, submitted to the Office of Challenge Grants.

14. Date: July 31, 2019.

This meeting will discuss applications on the topic of Museums, for the Infrastructure and Capacity Building Challenge Grants program, submitted to the Office of Challenge Grants.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: June 12, 2019.
Elizabeth Voyatzis,
Committee Management Officer, National Endowment for the Humanities.

[FR Doc. 2019-12701 Filed 6-14-19; 8:45 am]

BILLING CODE 7536-01-P